DEPARTMENT OF ENERGY

Federal Energy Regulatory Commission

[Docket No. EL01-122-004]

PJM Interconnection, L.L.C.; Notice of Filing

June 21, 2002.

Take notice that on June 19, 2002, PJM Interconnection, L.L.C. (PJM), in compliance with the Commission's May 15, 2002 “Order Addressing Compliance Filing and Directing Further Modification,” 99 FERC ¶ 61,170 (May 15 Order), supplemented its May 30, 2002 compliance filing in this docket to incorporate in the PJM West Transmission Owners Agreement (PJM West TOA) the same changes ordered by the Commission to the PJM Transmission Owners Agreement (PJM TOA). PJM states that, in compliance with the May 15 Order, it requests an effective date of May 15, 2002 for the enclosed revisions to the PJM West TOA.

Copies of this filing have been served on all persons on the service list in Docket No. EL01-122, and on all parties to the PJM West TOA.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Comment Date: July 10, 2002.

Linwood A. Watson, Jr.,
Deputy Secretary.

[FR Doc. 02-16563 Filed 7-01-02; 8:45 am]

BILLING CODE 6717-01-P